FEDERAL ELECTION COMMISSION

Sunshine Act Meetings

FEDERAL REGISTER CITATION NOTICE OF PREVIOUS ANNOUNCEMENT: 90 FR 9971.

PREVIOUSLY ANNOUNCED TIME AND DATE OF THE MEETING: Tuesday, February 25, 2025 at 1:00 p.m. and its Continuation at the Conclusion of the Open Meeting on February 27, 2025.

CHANGES IN THE MEETING:

The meeting also discussed:

Matters relating to internal personnel decisions, or internal rules and practices.

* * * * *

CONTACT FOR MORE INFORMATION: Myles Martin, Deputy Press Officer, Telephone: (202) 694-1221.

(Authority: Government in the Sunshine Act, 5 U.S.C. 552b)

Vicktoria J. Allen,
Deputy Secretary of the Commission.

[FR Doc. 2025-03386 Filed 2-26-25; 4:15 pm]

BILLING CODE 6715-01-P